ADVISORY COUNCIL ON HISTORIC PRESERVATION

Notice of Meeting

AGENCY: Advisory Council on Historic Preservation.

ACTION: Notice of meeting.

SUMMARY: Notice is hereby given that the Advisory Council on Historic Preservation will meet on Friday, July 13, 2001. The meeting will be held in the Paris North Room, Hotel Monaco, 501 Geary Street at Taylor, San Francisco, California, beginning at 8:30 a.m.

The Council was established by the National Historic Preservation Act of 1966 (16 U.S.C. 470) to advise the President and the Congress on matters relating to historic preservation and to comment upon Federal, federally assisted, and federally licensed undertakings having an effect upon properties listed in or eligible for inclusion in the National Register of Historic Places. The Council's members are the Architect of the Capitol; the Secretaries of the Interior, Agriculture, Housing and Urban Development, and Transportation; the Administrators of the Environmental Protection Agency and General Services Administration; the Chairman of the National Trust for Historic Preservation; the President of the National Conference of State Historic Preservation Officers; a Governor; a Mayor; a Native Hawaiian; and eight non-Federal members appointed by the President.

The agenda for the meeting includes the following:

I. Chairman's Welcome

II. Chairman's Report

III. Policy Issues

A. Section 106 and the National Energy Policy—Action

B. Preservation Initiatives for the Administration—Report and Possible Action

IV. Improving Federal Stewardship

A. Task Force on Balancing Cultural and Natural Values in National Parks—Report and Discussion

B. Proposed Alternate Section 106 Procedures for the Army—Action

C. Chairman's Citation for Historic Preservation Achievement—Action

D. Preservation of Manhattan Project Historic Properties—Action

E. Preservation and the Military Construction Process—Report and Possible Action

V. Section 106 Issues

Program Alternatives Underway—Report

VI. Executive Director's Report

A. Major Section 106 Cases—Report and Possible Action

B. Council Operating Procedures—Action

VII. New Business

VIII. Adjourn

Note: The meetings of the Council are open to the public. If you need special accommodations due to a disability, please contact the Advisory Council on Historic Preservation, 1100 Pennsylvania Ave., NW., Room 809, Washington, DC 20004, 202-606-8503, at least seven (7) days prior to the meeting.

FOR FURTHER INFORMATION CONTACT: Additional information concerning the meeting is available from the Executive Director, Advisory Council on Historic Preservation, 1100 Pennsylvania Ave., NW., #809, Washington, DC 20004, 202-606-8503.

Dated: June 27, 2001.
John M. Fowler,
Executive Director.

[FR Doc. 01-16529 Filed 6-29-01; 8:45 am]

BILLING CODE 4310-10-M